DEPARTMENT OF JUSTICE

Antitrust Division

Notice Pursuant to the National Cooperative Research and Production Act of 1993—National Warheads and Energetics Consortium

Notice is hereby given that, on May 7, 2012, pursuant to Section 6(a) of the National Cooperative Research and Production Act of 1993, 15 U.S.C. 4301 et seq. (“the Act”), National Warheads and Energetics Consortium (“NWEC”) has filed written notifications simultaneously with the Attorney General and the Federal Trade Commission disclosing changes in its membership. The notifications were filed for the purpose of extending the Act's provisions limiting the recovery of antitrust plaintiffs to actual damages under specified circumstances. Specifically, 21 CT, Inc., Austin, TX; Cerebrus Corporation, Morris Plains, NJ; Conax Florida Corporation, St. Petersburg, FL; Cyber Research, Inc., Belle Mead, NJ; Cybernet Systems Corporation, Ann Arbor, MI; DRS ICAS, LLC, Buffalo, NY; ENIG Associates, Inc., Bethesda, MD; FIRST RF Corporation, Boulder, CO; HEM Technologies, Lubbock, TX; Intelligent Automation, Inc., Rockville, MD; John Hopkins University Applied Physics Laboratory LLC, Laurel, MD; Lumimove, Inc., (dba Crosslink), St. Louis, MO; Materials & Electrochemical Research (MER) Corporation, Tucson, AZ; MBDA Inc., Arlington, VA; Meggitt Defense Systems Inc., Irvine, CA; Monte Sano Research Corporation, Huntsville, AL; Prototype Productions, Inc., Ashburn, VA; R. Stresau Laboratory, Inc. (dba Stresau Laboratory, Inc.), Spooner, WI; Stanley Associates, Inc., Huntsville, AL; Surface Optics Corporation, San Diego, CA; The ENSER Corporation, Pinellas Park, FL; and Triton Systems, Inc., Chelmsford, MA, have been added as parties to this venture.

Also, ADEX Machining Technologies, Greenville, SC; CarboMet, LLC, Morristown, NJ; Directed Energy Technologies, Inc., Sumerduck, VA; EFW Inc., Fort Worth, TX; El Dorado Engineering, Inc., Salt Lake City, UT; Mayflower Communications Company, Inc., Burlington, MA; Mecar USA Inc., Marshall, TX; Miltec Machining, Inc., Pensacola, FL; and Stevens Institute of Technology, Hoboken, NJ, have withdrawn as parties to this venture.

No other changes have been made in either the membership or planned activity of the group research project. Membership in this group research project remains open, and NWEC intends to file additional written notifications disclosing all changes in membership.

On May 2, 2000, NWEC filed its original notification pursuant to Section 6(a) of the Act. The Department of Justice published a notice in the Federal Register pursuant to Section 6(b) of the Act on June 30, 2000 (65 FR 40693).

The last notification was filed with the Department on February 23, 2012. A notice was published in the Federal Register pursuant to Section 6(b) of the Act on March 15, 2012 (77 FR 15394).

Patricia A. Brink,
Director of Civil Enforcement, Antitrust Division.

[FR Doc. 2012-13994 Filed 6-7-12; 8:45 am]

BILLING CODE 4410-11-P